DEPARTMENT OF ENERGY

Federal Energy Regulatory Commission

[Docket No. CP15-61-000]

Northern Natural Gas Company; Notice of Withdrawal of Staff Protest to Proposed Blanket Certificate Activity

Commission staff (Protestor) hereby withdraws its Protest to the Proposed Blanket Certificate Activity filed in the above-referenced proceeding on March 31, 2015.

In its prior notice request filed on January 20, 2015 (in Docket No. CP15-61-000) and noticed on January 30, 2015,¹ Northern Natural Gas Company (Northern) proposed to construct and abandon facilities in Clark and Codington Counties, South Dakota. Protestor protested the prior notice because the Sisseton-Wahpeton Oyate of the Lake Traverse Reservation indicated that it would be necessary to conduct a Traditional Cultural Properties (TCP) survey to ensure that no TCPs would be affected by construction. Northern had not provided the results of the TCP survey and/or updated communication with the tribe to ensure the project's compliance with the National Historic Preservation Act, as required under Appendix II to Subpart F of Part 157 of the Commission's regulations.

¹ Notice of the request was published in the Federal Register on February 5, 2015 (80 Fed. Reg. 6,512).

Subsequent to the filing of the protest, Northern submitted communication from the Sisseton-Wahpeton Oyate of the Lake Traverse Reservation that stated the project would have no effect on historic resources, and revised alignment sheets to show the revised workspace to avoid the TCP site. Thus, Protestor's environmental concern has been satisfied. Accordingly, Protestor hereby withdraws its Protest to the Proposed Blanket Certificate Activity filed in the instant docket on March 31, 2015.

Dated: April 30, 2015.
Kimberly D. Bose,
Secretary.

[FR Doc. 2015-10569 Filed 5-5-15; 8:45 am]

BILLING CODE 6717-01-P